DEPARTMENT OF HEALTH AND HUMAN SERVICES

Administration on Aging

Agency Information Collection Activities: Proposed Submission to the Office of Management and Budget (OMB) for Clearance; Comment Request; Extension of a Currently Approved Information Collection

AGENCY: Administration on Aging, HHS. The Administration on Aging (AoA), Department of Health and Human Services, proposes to submit to the Office of Management and Budget (OMB) the following proposal for the collection of information in compliance with the Paperwork Reduction Act (PRA; Pub. L. 96-511):

Title of Information Collection: State Annual Long-Term Care Ombudsman Report.

Type of Request: Extension of use of the report, with no revision.

Use: Extension of reporting format for use by states in reporting on activities of their Long-Term Care Ombudsman Programs as required under section 712 of the Older Americans Act, as amended.

Frequency: Annually.

Respondents: State Agencies on Aging.

Estimated Number of Responses: 52.

Total Estimated Burden Hours: 7,235.

Additional Information or Comments: The Administration on Aging plans to submit to the Office of Management and Budget, for approval, an extension, with no revisions, of a reporting form and instructions for the State Annual Long-Term-Care Ombudsman Report, pursuant to requirements in section 712(b) and (h) of the Older Americans Act. The form is currently being evaluated for possible revision to reflect additional programmatic reporting needs. However, this should not affect the PRA clearance process. Written comments and recommendations for the proposed information collection should be sent within 60 days of the publication of this notice directly to the following address: Office of Elder Rights Protection, Administration on Aging, Attention: Sue Wheaton, 330 Independence Avenue, SW., Washington, DC 20201.

Dated: March 7, 2001.
Norman L. Thompson,
Acting Principal Deputy Assistant Secretary for Aging.

[FR Doc. 01-6174 Filed 3-12-01; 8:45 am]

BILLING CODE 4154-01-P